DEPARTMENT OF JUSTICE

Drug Enforcement Administration

Importer of Controlled Substances; Notice of Registration

Correction

In notice document E5-6606 appearing on page 71560 in the issue of Tuesday, November 29, 2005, make the following correction:

On page 71560, in the first column, the fourth paragraph from the top, beginning with “One comment....” it should read “One comment was received; however, because it was filed after the expiration of the 30-day notice and comment period it was not considered.”

[FR Doc. Z5-6606 Filed 12-2-05; 8:45 am]

BILLING CODE 1505-01-D